DEPARTMENT OF AGRICULTURE

Submission for OMB Review; Comment Request

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by August 21, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Office of Procurement and Property Management

Title: Generic Clearance for Application Information and Follow-up Information for Fellowships, Scholarships, Internships, and Training Programs.

OMB Control Number: 0503-NEW.

Summary Of Collection: This is a new generic information collection request seeking approval for 3 years. The request “Generic Clearance for Application Information and Follow-up Information for Fellowships, Scholarships, Internships, and Training Programs” supports the Office of Partnerships and Public Engagement's (OPPE) mission to connect rural and underserved communities to the education, tools, and resources available to them through Department of Agriculture programs and initiatives. OPPE coordinates outreach activities, including fellowship programs, scholarship programs, internship programs, and new initiatives that the Secretary of Agriculture deems appropriate on behalf of the Department's agencies, offices, divisions, and units (7 U.S.C. 6934(c)).

Application and supporting documentation involving fellows, scholars, interns, and trainees are necessary for OPPE to effectively coordinate services provided by the Department. In addition, follow-up surveys administered to fellows, scholars, interns, and trainees upon completion of their respective programs are necessary to ensure that USDA is designing and implementing these programs effectively.

Applicants may possess a variety of degrees including, but not limited to, high school, post-baccalaureate, graduate, and doctorates. Potential applicants may apply for a variety of USDA opportunities by submitting applications, resumes, curriculum vitae (CV), reference letters, and other related documentation to OPPE or directly to USDA offices. This information is necessary to evaluate the eligibility, merits, and quality of potential candidates and will also assist in matching potential candidates to various fellowships, scholarships, internships, and training programs.

Need and Use of the Information: This generic clearance will permit OPPE to more efficiently collect applications and related documentation so that potential candidates may receive consideration for programs of their choice. It is important to ensure that applications are targeted, streamlined, and work in conjunction with the respective outreach efforts of USDA agencies and mission areas. This information collection will also enable USDA to collect qualitative participant feedback in an efficient, timely manner, in accordance with the Administration's commitment to providing career pathways to Federal positions. Participant feedback surveys will provide useful insights on perceptions and opinions but will not be statistical surveys that yield quantitative results that can be generalized to the population of study. This feedback will provide insights into participant perceptions, experiences, and expectations; provide an early warning of issues with participant placement; or focus attention on areas where communication, training, or changes, in operations might improve program participation and conversion to Federal service. These collections will contribute directly to the improvement of program management. Finally, this generic clearance process allows programs an abbreviated PRA clearance process to gather a tailored pool of candidates to meet the education needs of a rapidly changing workforce and assess the extent to which programs are meeting participant needs. In addition, this clearance would allow for central administration of the PRA Clearance process, form sharing among programs, and potentially fewer online application and participant feedback systems at USDA.

Description of Respondents: Individuals.

Number of Respondents: 50,000.

Frequency of Responses: Annually; Semi-annually.

Total Burden Hours: 30,833.

Levi S. Harrell,
Departmental Information Collection Clearance Officer.

[FR Doc. 2024-16063 Filed 7-19-24; 8:45 am]

BILLING CODE 3412-88-P